DEPARTMENT OF HEALTH AND HUMAN SERVICES

Centers for Disease Control and Prevention

[Docket No. CDC-2012-0013]

Notice of Intent To Prepare an Environmental Impact Statement, Public Scoping Meeting, and Request for Comments; 2015-2025 Facilities Master Plan for Edward R. Roybal Campus in Atlanta, GA

AGENCY: Centers for Disease Control and Prevention (CDC), Department of Health and Human Services (HHS).

ACTION: Notice of intent; meeting announcement and request for comment.

SUMMARY: The Centers for Disease Control and Prevention (CDC) within the Department of Health and Human Services (HHS) announces its intent to prepare an Environmental Impact Statement (EIS) for the proposed 2015-2025 Facilities Master Plan for HHS/CDC's Edward R. Roybal Campus located at 1600 Clifton Road NE., in Atlanta, Georgia. This announcement follows the requirements of the National Environmental Policy Act of 1969 (NEPA) as implemented by the Council on Environmental Quality (CEQ) Regulations (40 CFR Part 1500-1508); and, the Department of Health and Human Services (HHS) General Administration Manual Part 30 Environmental Procedures, dated February 25, 2000.

DATES: A Public Scoping Meeting will be held on Thursday, January 17, 2013 in Atlanta, Georgia. The meeting will begin at 7 p.m. and end no later than 9 p.m. Written scoping comments must be received on or before Friday, February 1, 2013.

Deadline for Requests for Special Accommodations: Persons wishing to participate in the public scoping meeting who need special accommodations should contact George Chandler (gec2@cdc.gov or (404) 639-5153) by 5 p.m. Thursday, January 10, 2013.

ADDRESSES: The Public Scoping Meeting will be held at the CDC Edward R. Roybal Campus, Tom Harkin Global Communications Center (Building 19), Auditorium A, 1600 Clifton Road NE., Atlanta, GA 30333. You should be aware that the meeting location is in a Federal government building; therefore, Federal security measures are applicable. For additional information, please see Roybal Campus Security Guidelines under SUPPLEMENTARY INFORMATION.

You may submit comments identified by Docket No. CDC-2012-0013, by any of the following methods:

• Federal eRulemaking Portal: http://www.regulations.gov. Follow the instructions for submitting comments.

• Mail: George F. Chandler, Senior Advisor, Centers for Disease Control and Prevention, 1600 Clifton Road NE., Mailstop A-22, Atlanta, Georgia 30333.

Instructions: All submissions received must include the agency name and Docket Number. All relevant comments received will be posted without change to http://www.regulations.gov, including any personal information provided. For access to the docket to read background documents or comments received, go to http://www.regulations.gov.

FOR FURTHER INFORMATION CONTACT: George F. Chandler, Senior Advisor, Centers for Disease Control and Prevention, 1600 Clifton Road NE., Mailstop A-22, Atlanta, Georgia 30333; telephone (404) 639-5153.

SUPPLEMENTARY INFORMATION: HHS/CDC intends to prepare an Environmental Impact Statement (EIS) to analyze the potential impacts resulting from the proposed Roybal Campus 2015-2025 Facilities Master Plan. The Master Plan will guide the future physical development of the HHS/CDC Roybal Campus in Atlanta, GA, for the years 2015 to 2025. The proposed Master Plan does not constitute authorization or funding for any specific construction project.

Background

HHS/CDC is dedicated to protecting health and promoting quality of life through the prevention and control of disease, injury, and disability. HHS/CDC, headquartered on Clifton Road in Atlanta, Georgia since 1958, is recognized as the lead Federal agency for protecting the health and safety of people. HHS/CDC provides credible information to enhance health decisions, and promotes health through strong partnerships. HHS/CDC serves as the national focus for developing and applying disease prevention and control, environmental health, and health promotion and education activities designed to improve the health of the people of the United States.

Because the 2000-2009 Master Plan has been successfully implemented, HHS/CDC is planning to prepare a new Roybal Campus Facilities Master Plan for 2015-2025. The new Master Plan will cover a 10-year planning period and will examine potential growth in agency mission, laboratory and laboratory support space, office space and personnel on the Roybal Campus. The Master Plan will also examine alternative ways of supporting potential mission change or growth at the Roybal Campus, including new construction of laboratory and office buildings, as well as better use of existing space to house potential growth. The Master Plan will evaluate opportunities for future development of the site, and consider the limits and capacity of both the Roybal Campus proper and the surrounding community. The potential impacts of future development on the natural and built environment will be evaluated.

In accordance with the National Environmental Policy Act of 1969 (NEPA) as implemented by the Council on Environmental Quality (CEQ) regulations (40 CFR Part 1500-1508), and the HHS environmental procedures, HHS/CDC will prepare an EIS for the proposed 2015-2025 Facilities Master Plan. Under NEPA, Federal agencies are required to evaluate the environmental effects of their proposed actions and a range of feasible alternatives to the proposed action before making a decision. Areas of concern include, but are not limited to: traffic and transportation; air quality; community services; natural resources; community and employee quality of life; and utilities (water and power).

Scoping Process

In accordance with NEPA, a Public Scoping process will be conducted to identify the range of major issues to be addressed relative to the proposed 2015-2025 Facilities Master Plan. “Scoping” is the early and open process for determining the scope of issues to be addressed and for identifying the significant issues related to selecting and implementing one of several potential Roybal Master Plan alternatives. During the scoping process, HHS/CDC will actively seek input from interested people, organizations, and Federal, state, and regional agencies to identify environmental concerns to be addressed in the EIS. The purpose of this Notice is to inform interested parties regarding HHS/CDC's plan to prepare the EIS for the 2015-2025 Facilities Master Plan, to provide information on the nature of the Proposed Action and to initiate the scoping process. The Scoping Meeting will consist of an “Open House” from 7 p.m. to approximately 7:45 p.m., where HHS/CDC will make available a general site plan and publically available information on the current conditions of the Campus. HHS/CDC will also provide available data on possible future development alternatives. Scoping comment cards will be provided at the Open House portion of the meeting for those who need to leave early but who wish to make a comment for the record. At approximately 8 p.m., HHS/CDC will give a brief overview of the current conditions and the planning and EIS processes. Individuals staying for this portion of the Scoping Meeting may make verbal statements or use a Scoping comment card. A stenographer will record this portion of the Scoping Meeting. An American Sign Language Interpreter will be available at both portions of the Scoping Meeting. The agenda is subject to change without notice. A transcript of the meeting and all comments received at the meeting will be posted to the public docket at www.regulations.gov.

Roybal Campus Security Guidelines

The Edward R. Roybal Campus is the headquarters of the U.S. Centers for Disease Control and Prevention and is located at 1600 Clifton Road NE., Atlanta, Georgia. The meeting is being held in a Federal government building; therefore, Federal security measures are applicable.

In planning your arrival time, please take into account the need to park and clear security. All visitors must enter the Roybal Campus through the entrance on Clifton Road; the guard force will direct visitors to the designated parking area. Visitors must present government issued photo identification (e.g., a valid Federal identification badge, state driver's license, state non-driver's identification card, or passport). Non-United States citizens must present a valid passport, visa, Permanent Resident Card, or other type of work authorization document. All persons entering the building must pass through a metal detector. Visitors will be issued a visitor's ID badge at the entrance to Building 19 and will be escorted in groups of 5-10 persons to the meeting room. All items brought to HHS/CDC are subject to inspection.

Dated: December 11, 2012.
Tanja Popovic,
Deputy Associate Director for Science, Centers for Disease Control and Prevention.

[FR Doc. 2012-30276 Filed 12-14-12; 8:45 am]

BILLING CODE 4163-18-P